DEPARTMENT OF TRANSPORTATION

Federal Aviation Administration

14 CFR Part 39

[Docket No. 2000-CE-38-AD; Amendment 39-13928; AD 2005-01-04]

RIN 2120-AA64

Airworthiness Directives; Raytheon Aircraft Company 90, 99, 100, 200, and 300 Series Airplanes

AGENCY: Federal Aviation Administration, DOT.

ACTION: Final rule; correction.

SUMMARY: This document incorporates corrections to Airworthiness Directive (AD) 2005-01-04, which was published in the Federal Register on January 6, 2005 (70 FR 1169) with regulatory corrections published on January 27, 2005 (70 FR 3871). AD 2005-01-04 applies to certain Raytheon Aircraft Company 90, 99, 100, 200, and 300 series airplanes. This action incorporates the corrections into one document to help eliminate any confusion. We are re-issuing the AD in its entirety.

EFFECTIVE DATE: The effective date of this AD remains February 22, 2005.

ADDRESSES: To get the service information identified in this AD, contact Raytheon Aircraft Company, PO Box 85, Wichita, Kansas 67201-0085; telephone: (800) 625-7043. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19089.

FOR FURTHER INFORMATION CONTACT: Jeffrey A. Pretz, Aerospace Engineer, ACE-116W, 1801 Airport Road, Room 100, Wichita, Kansas 67209; telephone: (316) 946-4153; facsimile: (316) 946-4407.

SUPPLEMENTARY INFORMATION:

Discussion

On December 27, 2004, FAA issued AD 2005-01-04, Amendment 39-13928 (70 FR 1169, January 6, 2005), which applies to certain Raytheon Aircraft Company 90, 99, 100, 200, and 300 series airplanes. That AD requires you to check the airplane maintenance records from January 1, 1994, up to and including the effective date of that AD, for any MIL-H-6000B fuel hose replacements on the affected airplanes.

On January 20, 2005, FAA made corrections to that AD through Federal Register publication (70 FR 3871). That AD correction changed the model number C90B in the applicability section to C90A.

Need for This Action

For clarity purposes, FAA is incorporating the original AD publication and the correction into one document to help eliminate any confusion. Consequently, we are re-issuing the AD in its entirety.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 98-15-13, Amendment 39-10664 (63 FR 38295-98, July 16, 1998), and by adding a new AD to read as follows:

2005-01-04 Raytheon Aircraft Company: Amendment 39-13928; Docket No. FAA-2004-19089; Directorate Identifier 2000-CE-38-AD.

When Does This AD Become Effective?

(a) The effective date of this AD (2005-01-04) remains February 22, 2005.

What Other ADs Are Affected by This Action?

(b) This AD supersedes AD 98-15-13, Amendment 39-10664.

What Airplanes Are Affected by This AD?

(c) This AD affects the following airplane models and serial numbers that are certificated in any category:

Model | Series
(1) 65-90 | LJ-1 through LJ-75, and LJ-77 through LJ-113.
(2) 65-A90 | LJ-76, LJ-114 through LJ-317, and LJ-178A.
(3) B90 | LJ-318 through LJ-501.
(4) C90 | LJ-502 through LJ-1062.
(5) C90A | LJ-1063 through LJ-1287, LJ-1289 through LJ-1294, and LJ-1296 through LJ-1299.
(6) C90A | LJ-1288, LJ-1295, and LJ-1300 through LJ-1445.
(7) E90 | LW-1 through LW-347.
(8) F90 | LA-2 through LA-236.
(9) H90 | LL-1 through LL-61.
(10) 100 | B-2 through B-89, and B-93.
(11) A100 | B-1, B-90 through B-92, B-94 through B-204, and B-206 through B-247.
(12) A100-1 (RU-21J) | BB-3 through BB-5.
(13) B100 | BE-1 through BE-137
(14) 200 | BB-2, BB-6 through BB-185, BB-187 through BB-202, BB-204 through BB-269, BB-271 through BB-407, BB-409 through BB-468, BB-470 through BB-488, BB-490 through BB-509, BB-511 through BB-529, BB-531 through BB-550, BB-552 through BB-562, BB-564 through BB-572, BB-574 through BB-590, BB-592 through BB-608, BB-610 through BB-626, BB-628 through BB-646, BB-648 through BB-664, BB-735 through BB-792, BB-794 through BB-797, BB-799 through BB-822, BB-824 through BB-828, BB-830 through BB-853, BB-872, BB-873, BB-892, BB-893, and BB-912.
(15) 200C | BL-1 through BL-23, and BL-25 through BL-36.
(16) 200CT | BN-1.
(17) 200T | BT-1 through BT-BT-22, and BT-28.
(18) A200 | BC-1 through BC-75, and BD-1 through BD-30.
(19) A200C | BJ-1 through BJ-66.
(20) A200CT | BP-1, BP-7 through BP-11, BP-22, BP-24 through BP-63, FC-1 through FC-3, FE-1 through FE-36, and GR-1 through GR-19.
(21) B200 | BB-829, BB-854 through BB-870, BB-874 through BB-891, BB-894, BB-896 through BB-911, BB-913 through BB-990, BB-992 through BB-1051, BB-1053 through BB-1092, BB-1094, BB-1095, BB-1099 through BB-1104, BB-1106 through BB-1116, BB-1118 through BB-1184, BB-1186 through BB-1263, BB-1265 through BB-1288, BB-1290 through BB-1300, BB-1302 through BB-1425, BB-1427 through BB-1447, BB-1449, BB-1450, BB-1452, BB-1453, BB-1455, BB-1456, and BB-1458 through BB-1536
(22) B200C | BL-37 through BL-57, BL-61 through BL-140, BU-1 through BU-10, BV-1 through BV-12, and BW-1 through BW-21.
(23) B200CT | BN-2 through BN-4, BU-11, BU-12, FG-1, and FG-2.
(24) B200T | BT-23 through BT-27, and BT-29 through BT-38
(25) 300 | FA-1 through BA-230, and FF-1 through FF-19.
(26) B300 | FL-1 through FL-141.
(27) B300C | FM-1 through FM-9, and FN-1.
(28) 99, 99A, A99, A99A | U-1 through U-49, U-51 through U-145, and U-147
(29) B99 | U-146, and U-148 through U-164.
(30) C99 | U-50, and U-165 through U-239.

What Is the Unsafe Condition Presented in This AD?

(d) This AD is the result of blockage of fuel hose due to hose delamination. The actions specified in this AD are intended to prevent fuel flow interruption, which could lead to uncommanded loss of engine power and loss of control of the airplane.

What Must I Do To Address This Problem?

(e) To address this problem, you must do the following:

Actions | Compliance | Procedures
(1) For airplanes manufactured prior to January 1, 1994, check airplane maintenance records for any MIL-H-6000B fuel hose replacement from January 1, 1994, up to and including the effective date of this AD | For all affected airplanes other than the Models 99, 99A, A99, A99A, B99, and C99: Within 200 hours time-in-service (TIS) after August 28, 1998 (the effective date of AD 98-15-13). For all affected Models 99, 99A, A99, A99A, B99, and C99 airplanes: Within the next 200 hours TIS after February 22, 2005 (the effective date of this AD) | Documented compliance with AD 98-15-13 or follow PART II of the ACCOMPLISHMENT INSTRUCTIONS section in Raytheon Aircraft Mandatory Service Bulletin SB 2718, Revision 1, dated June 1997; or Revision 2, dated April 2000. An owner/operator holding at least a private pilot certificate as authorized by section 43.7 of the Federal Aviation Regulations (14 CFR 43.7), and must be entered into the aircraft records showing compliance with this AD in accordance with section 43.7 of the Federal Aviation Regulations (14 CFR 43.9) can accomplish paragraph (e)(1) required of this AD.
(2) If the airplane records show that a MIL-H-6000B fuel hose has been replaced, inspect the airplane fuel hoses for a ⅜-inch-wide red or orange-red, length-wise stripe, with manufacturer's code, 94519, printed periodically along the line in red letters on one side. The hoses have a spiral or diagonal outer wrap with a fabric-type texture on the rubber surface | For all affected airplanes other than the Models 99, 99A, A99, A99A, B99, and C99: Within 200 hours TIS after August 28, 1998 (the effective date of AD 98-15-13). For all affected Models 99, 99A, A99, A99A, B99, and C99 airplanes: Within the next 200 hours TIS after February 22, 2005 (the effective date of this AD) | Documented compliance with AD 98-15-13 or follow PART II of the ACCOMPLISHMENT INSTRUCTIONS section in Raytheon Aircraft Mandatory Service Bulletin SB 2718, Revision 1, dated June 1997; or Revision 2, dated April 2000.
(3) Replace any fuel hose that matches the description in paragraph (e)(2) of AD with an FAA-approved MIL-H-6000B fuel hose that has a criss-cross or braided external wrap | For all affected airplanes other than the Models 99, 99A, A99, A99A, B99, and C99: Within 200 hours TIS after August 28, 1998 (the effective date of AD 98-15-13). For all affected Models 99, 99A, A99, A99A, B99, and C99 airplanes: Within the next 200 hours TIS after February 22, 2005 (the effective date of this AD) | Documented compliance with this AD 98-15-13 or follow PART II of the ACCOMPLISHMENT INSTRUCTIONS section in Raytheon Aircraft Mandatory Service Bulletin SB 2718, Revision 1, dated June 1997; or Revision 2, dated April 2000.
(4) For Raytheon Models C90A, B200, and B300 airplanes that were manufactured on January 1, 1994, and after, replace the MIL-H-6000B fuel hoses | Within 200 hours TIS after August 28, 1998 (the effective date of AD 98-15-13) | Documented compliance with AD 98-15-13 or follow PART I of ACCOMPLISHMENT INSTRUCTIONS section in Raytheon Aircraft Mandatory Service Bulletin SB 2718, Revision 1, dated June 1997; or Revision 2, dated April 2000.
(5) Do not install a rubber fuel hose having spiral or diagonal external wrap with a ⅜-inch-wide red or orange-red, length-wise stripe running down the side of the hose, with the manufacturer's code, 94519, printed periodically along the line in red letters on any of the affected airplanes | As of February 22, 2005 (the effective date of this AD) | Not applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Jeffrey A. Pretz, Aerospace Engineer, ACE-116W, 1801 Airport Road, Room 100, Wichita, Kansas 67209; telephone: (316) 946-4153; facsimile: (316) 946-4407.

Does This AD Incorporate Any Material by Reference?

(g) You must do the actions required by this AD following the instructions in Raytheon Aircraft Mandatory Service Bulletin SB 2718, Revision 1, dated June 1997; or Revision 2, dated April 2000. The Director of the Federal Register approved the incorporation by reference of this service bulletin in accordance with 5 U.S.C. 552(a) and 1 CFR part 51. To get a copy of this service information, contact Raytheon Aircraft Company, P.O. Box 85, Wichita, Kansas 67201-0085; telephone: (800) 625-7043. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-0001 or on the Internet at http://dms.dot.gov. The docket number is FAA-2004-19089.

Issued in Kansas City, Missouri, on February 4, 2005.
Nancy C. Lane,
Acting Manager, Small Airplane Directorate, Aircraft Certification Service.

[FR Doc. 05-2604 Filed 2-9-05; 8:45 am]

BILLING CODE 4910-13-P